DEPARTMENT OF JUSTICE

Antitrust Division

Notice Pursuant to the National Cooperative Research and Production Act of 1993—Joint Venture Agreement Between Cambridge Major Laboratories, Inc. and Konarka Technologies, Inc., in Furtherance of NIST Cooperative Agreement (Proposal Number 00-00-7749)

Notice is hereby given that, on February 18, 2010, pursuant to Section 6(a) of the National Cooperative Research and Production Act of 1993, 15 U.S.C. 4301 et seq. (“the Act”), Joint Venture Agreement Between Cambridge Major Laboratories, Inc. and Konarka Technologies, Inc., in Furtherance of NIST Cooperative Agreement (Proposal Number 00-00-7749) (“Cambridge and Konarka 00-00-7749”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Konarka Technologies, Inc., Lowell, MA; and Cambridge Major Laboratories, Inc., Germantown, WI. The general area of Cambridge and Konarka 00-00-7749's planned activity is to develop commercializable organic photovoltaic modules that are transparent to any pre-selected region of the visible spectrum. This unique feature enables the application of these colored, transparent, power producing modules in windows for commercial and residential building and greenhouses.

Patricia A. Brink,
Deputy Director of Operations, Antitrust Division.

[FR Doc. 2010-7003 Filed 3-30-10; 8:45 am]

BILLING CODE 4410-11-M